DEPARTMENT OF DEFENSE

Office of the Secretary

[Transmittal No. 20-0L]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 20-0L.

Dated: October 7, 2020.
Aaron T. Siegel,
Alternate OSD Federal Register Liaison Officer, Department of Defense.

Transmittal No. 20-0L

REPORT OF ENHANCEMENT OR UPGRADE OF SENSITIVITY OF TECHNOLOGY OR CAPABILITY (SEC. 36(B)(5)(C), AECA)

(i) Prospective Purchaser: Government of Thailand

(ii) Sec. 36(b)(1), AECA Transmittal No.: 19-33

Date: July 26, 2019

Implementing Agency: Army

(iii) Description: On July 26, 2019 Congress was notified, by Congressional certification transmittal number 19-33, of the possible sale, under Section 36(b)(1) of the Arms Export Control Act, to the Government of Thailand of sixty (60) Stryker Infantry Carrier Vehicles (ICV); and sixty (60) M2 Flex .50 cal machine guns. Also included were spare parts, Basic Issue Items (BII), Components of End Items (COEI), Additional Authorized List (AAL) (specific items for operations and maintenance), Special Tools and Test Equipment (STTE), technical manuals, OCONUS Deprocessing Service, M6 smoke grenade launchers (4 per vehicle) and associated spares, AN/VAS-5 Driver's Vision Enhancer (DVE), AN/VIC-3 vehicle intercommunications system, contractor provided training and Field Service Representatives (FSR), and other related elements of logistics and program support. The estimated cost was $175 million. Major Defense Equipment (MDE) constituted $125 million of this total.

This transmittal notifies inclusion of the following additional MDE items:

(1) Forty-seven (47) Stryker Infantry Carrier Vehicles (ICV)

(2) Ninety (90) Stryker variant vehicles (includes the Commander's Vehicle (CV), Mortar Carrier Vehicle (MCV), and the Medical Evacuation Vehicle (MV) variants)

(3) One hundred thirty-seven (137) M2A1 .50 cal machine guns (one per Stryker vehicle)

(4) Twelve (12) Common Remote Operated Weapons Station (CROWS) (to be mounted on 12 of the 47 Stryker ICVs)

The following non-MDE items will also be included: Spare parts, Basic Issue Items (BII), Components of End Items (COEI), Additional Authorized List (AAL) (specific items for operations and maintenance), Special Tools and Test Equipment (STTE), technical manuals, OCONUS Deprocessing Service, M6 smoke grenade launchers (4 per vehicle) and associated spares, AN/VAS-5 Driver's Vision Enhancer (DVE), AN/VIC-3 vehicle intercommunications system, contractor provided training and Field Service Representatives (FSR), and other related elements of logistics and program support.

The addition of these items will result in a net increase in MDE cost of $400 million, resulting in a revised MDE cost of $525 million. The additional non-MDE items will result in a net increase of $100 million. The total estimated case value will increase to $675 million.

(iv) Significance: The proposed articles and services will support Thailand's need to replace less capable M-113 tracked armored vehicles with a modern multirole medium-weight armored fighting vehicle. The provision of the Stryker ICV, CV, MCV, MV, and CROWS directly supports the Country Team's and USINDOPACOM's strategic objectives for Thailand by building partner capacity to plan, train, and operate with U.S. forces in support of mutual strategic interests.

(v) Justification: This proposed sale will support the foreign policy and national security objectives of the United States by helping to improve security of a Major Non-NATO ally which is an important force for political stability and economic progress in the Indo-Pacific region.

(vi) Sensitivity of Technology: The Common Remotely Operated Weapon Station (CROWS) is an externally mounted weapon mounting and control system that allows the gunner to remain inside the vehicle protected by armor while firing a variety of crew served weapons. The CROWS provides remote day and night sighting and ballistic control capacity, providing first-burst engagement of targets at maximum effective weapon range while on the move.

The highest level of classification of defense articles, components, and services included in this potential sale is SECRET.

(vii) Date Report Delivered to Congress: September 24, 2020.

[FR Doc. 2020-22612 Filed 10-13-20; 8:45 am]

BILLING CODE 5001-06-P